CONSUMER PRODUCT SAFETY COMMISSION

Sunshine Act Meeting

TIME AND DATE: Tuesday, September 24, 2019, 2:00 p.m.

PLACE: Hearing Room 420, Bethesda Towers, 4330 East West Highway, Bethesda, MD.

STATUS: Commission Meeting—Open to the Public.

MATTERS TO BE CONSIDERED: Briefing Matter: Fiscal Year 2020 Operating Plan.

A live webcast of the Meeting can be viewed at https://www.cpsc.gov/live.

CONTACT PERSON FOR MORE INFORMATION: Alberta Mills, Office of the Secretariat, Office of the General Counsel, U.S. Consumer Product Safety Commission, 4330 East West Highway, Bethesda, MD 20814, (301) 504-6833.

Dated: September 17, 2019.
Alberta E. Mills,
Secretary.

[FR Doc. 2019-20426 Filed 9-17-19; 4:15 pm]

BILLING CODE 6355-01-P